DEPARTMENT OF COMMERCE

International Trade Administration

Export Trade Certificate of Review

ACTION: Notice of Application to Amend an Export Trade Certificate of Review.

SUMMARY: The Office of Export Trading Company Affairs (“OETCA”), International Trade Administration, Department of Commerce, has received an application to amend an Export Trade Certificate of Review (“Certificate”). This notice summarizes the proposed amendment and requests comments relevant to whether the Certificate should be issued.

FOR FURTHER INFORMATION CONTACT: Morton Schnabel, Director, Office of Export Trading Company Affairs, International Trade Administration, (202) 482-5131. This is not a toll-free number.

SUPPLEMENTARY INFORMATION: Title III of the Export Trading Company Act of 1982 (15 U.S.C. 4001-21) authorizes the Secretary of Commerce to issue Export Trade Certificates of Review. An Export Trade Certificate of Review protects the holder and the members identified in the Certificate from state and federal government antitrust actions and from private treble damage antitrust actions for the export conduct specified in the Certificate and carried out in compliance with its terms and conditions. Section 302(b)(1) of the Export Trading Company Act of 1982 and 15 CFR 325.6(a) require the Secretary to publish a notice in the Federal Register identifying the applicant and summarizing its proposed export conduct.

Request for Public Comments

Interested parties may submit written comments relevant to the determination whether an amended Certificate should be issued. If the comments include any privileged or confidential business information, it must be clearly marked and a nonconfidential version of the comments (identified as such) should be included. Any comments not marked privileged or confidential business information will be deemed to be nonconfidential. An original and five (5) copies, plus two (2) copies of the nonconfidential version, should be submitted no later than 20 days after the date of this notice by email to oetca@ita.doc.gov, or by mail to: Office of Export Trading Company Affairs, International Trade Administration, Department of Commerce, Room 1104, Washington, DC 20230. Information submitted by any person is exempt from disclosure under the Freedom of Information Act (5 U.S.C. 552). However, nonconfidential versions of the comments will be made available to the applicant if necessary for determining whether or not to issue the Certificate. Comments should refer to this application as “Export Trade Certificate of Review, application number 88-3A012.”

The National Tooling and Machining Association (“NTMA”) original Certificate was issued on October 18, 1988 (53 FR 43140, October 25, 1988), and was last amended on May 5, 2000 (65 FR 30073, May 10, 2000). A summary of the application for an amendment follows.

Summary of the Application

NTMA wishes to amend its certificate to:

(1) Add the attached List 1 of firms as “Members” of the Certificate within the meaning of section 325.2(1) of the Regulations (15 CFR 325.2(1)).

(2) Remove the attached List 2 of firms as “Members” of the Certificate within the meaning of section 325.2(1) of the Regulations (15 CFR 325.2(1)).

Dated: December 14, 2000.
Morton Schnabel,
Director, Office of Export Trading Company Affairs.

Attachment List 1: Firms To Be Added as Members

A. C. Grinding & Supply Co. Inc.—Levittown, PA

A C Mfg. Co. Inc.—Malden, MA

AMS Production Machining Inc.—Plainfield, IN

A Mfg.—Grand Terrace, CA

ARG Manufacturing Corp.—Arlington, TX

AR Industries Inc.—Cincinnati, OH

A-1 Precision Metal Products—Phoenix, AZ

Absolute Turning & Machine—Tucson, AZ

Harrison Enterprise, Inc.—Phoenix, AZ

Accurate Machine Co. Inc.—Indianapolis, IN

Acklin Stamping—Toledo, OH

Action Mold & Tool Co.—Anaheim, CA

Advanced Tooling Specialists—Menasha, WI

Aggressive Tool & Die, Inc.—Coopersville, MI

Akro Tool Co., Inc.—Cincinnati, OH

All Precision Mfg., LLC—Nokomis, IL

American Precision Hydraulics—Huntington Beach, CA

Andrew Tool Company, Inc.—Plymouth, MN

Applied Technology Manufacturing—Owego, NY

Aram Precision Tool & Die, Inc.—Chatsworth, CA

Aremco, Inc.—Grand Rapids, MN

Armstrong Technology, Inc.—Sunnyvale, CA

Arnette Pattern Company—Granite City, IL

Artisan Associates—Detroit, MI

Assistant Buyer, Inc.—Beverly, MA

Atec Engineering—Phoenix, AZ

Automation Technology, Inc.—Fenton, MO

Axis Mfg. Inc.—Tempe, AZ

B & M Machine Corporation of Racine—Racine, WI

BSB Products Corporation—Buffalo, NY

B2BXchange, Inc.—Eden Prairie, MN

Bardons & Oliver, Inc.—Solon, OH

The Baughman Group—Louisville, KY

Beckett Gas, Inc.—North Ridgeville, OH

Benning Inc.—Blame, MN

Black Creek, Inc.—Gadsden, AL

Blow Mold Solutions, Inc.—Grandview, MO

Bob's Tool & Cutter Grinding,—Indianapolis, IN

Bopp-Busch Manufacturing Company—Au Gres, MI

Boss Tool and Manufacturing, Inc—Fremont, CA

Bourdelais Grinding Co., Inc.—Chatsworth, CA

Bradford Machine Company Inc.—Brattleboro, VT

Bratt Machine Company Inc.—No. Andover, MA

Brij Systems—Wichita, KS

Brittain Machine, Inc.—Wichita, KS

C & G Machine & Tool Co.,Inc.—Granby, MA

C & W Machine—Indianapolis, IN

CNC Precision Manufacturing—Farmers Branch, TX

CPC Tooling Technologies—Columbus, OH

Campbell Machinery, Inc.—Stow, OH

Campro Manufacturing, Inc.—Phoenix, AZ

Capacity Web.com Inc.—Chicago, IL

Carlin Machine Company, Inc.—Southborough, MA

Castle Precision Products—Stockton, CA

Cavalry Precision Machine Inc.—Largo, FL

Central Industrial Supply—Grand Prairie, TX

Clark Automation Manufacturing—Pleasanton, CA

Colbrit Manufacturing Co., Inc.—Chatsworth, CA

Complete Tool & Die, Inc.—St. James, MO

Coosa Machine Company, LLC—Rainbow City, AL

Creative Machining & Mfg., Inc.—Largo, FL

Crosrol, Inc.—Greenville, SC

Cutting Edge Manufacturing—Scottsdale, AZ

D & S Mold & Tool Company, Inc.—Marinette, WI

D. F. O'Brien Precision Machining—Santa Fe Springs, CA

DJM Mfg.—Sunnyvale, CA

DT Scheu & Kniss—Louisville, KY

Daca Machine & Tool, Inc.—Dutzow, MO

Die-Namic Tool & Mfg., Inc.—Rockford, IL

Distefano Tool & Mfg. Company—Omaha, NE

Diversified Tooling Innovations,—Racine, WI

Dukowitz Machine Inc.—Nikiski, AK

E & S Precision Machine, LLC—Modesto, CA

E K L Machine Company, Inc.—Andalusia, PA

Elkhart Machine Group—Elkhart, IN

Ellis Tool & Machine, Inc.—Tom Bean, TX

Engineered Machine Tool, Inc.—Wichita, KS

Entela, Inc.—Grand Rapids, MI

EROWA Technology Inc.—Arlington Hts., IL

Extreme Machine LLC—Phoenix, AZ

F P Pla Tool & Manufacturing Co.—Buffalo, NY

Famco Machine Company—Clarksville, TN

Farrar Corporation—Norwich, KS

Foresight Technologies—Tempe, AZ

Four Pro Machine—Wichita, KS

Free-MaDie Company—Kittanning, PA

FreeMarkets—Pittsburgh, PA

Fries Machine & Tool, Inc.—Christiansburg, OH

Gasaway Manufacturing LLC—Beasley, TX

Gillilan Machine Co., Inc.—Mt. Juliet, TN

Glidden Machine & Tool, Inc.—North Tonawanda, NY

Godwin-SBO, L.P.—Houston, TX

Grand Valley Manufacturing—Titusville, PA

Gustav's Tool & Die, Inc.—Seguin, TX

H & H Machine Company—Whittier, CA

H Brauning Company, Inc.—Manassas, VA

Hewitt Machine & Tool, Inc.—Hewitt, TX

Howard Tool Co. Inc.—Hampden, ME

Hurricane Machine Company, LLC—Dallas, TX

Hyde Special Tools—Saegertown, PA

IMS, Inc.—Decatur, AL

IndTool, Inc.—Burlington, NC

Independent Forge Company—Orange, CA

Integrated Fabrication and Machine—Sharpsville, PA

Integrity Manufacturing—Colorado Springs, CO

International Tooling & Stamping—Mt.Juliet, TN

J & L Development, Inc.—Keithville, LA

J & W Manufacturing—Phoenix, AZ

J R Custom Metal Products, Inc.—Wichita, KS

JRM Machine Company—St. Paul, MN

J2 Precision CNC, Inc.—Phoenix, AZ

Jasco Tools, Inc.—Rochester, NY

K. D. K. Inc.—Prescott, AZ

Kalman Machining—Richmond, CA

Karlee—Garland, TX

Karsten Precision—Phoenix, AZ

Kelly & Thome—Pomona, CA

Kennebec Tool & Die Co., Inc.—Augusta, ME

Knight Industries Precision—Corona, CA

L & L Tool & Die—Gardena, CA

L. P. Engineering Co.—Carson, CA

L R G Corporation—Jeannette, PA

L S Technologies, Inc.—Fort Mill, SC

Lange Precision, Inc.—Fullerton, CA

Las Cruces Machine—Las Cruces, NM

Laser Fabrication & Machine—Alexandria, AL

Lavelle Machine—Westford, MA

Leech Industries, Inc.—Meadville, PA

Lemco-Miller Corporation—Danvers, MA

Machine Works, Inc.—Phoenix, AZ

Mack Tool & Engineering—South Bend, IN

Madden Machine Works—Torrance, CA

Mfgconnect Inc.—Missoula, MT

ManufacturingQuote.com, Inc.—Smyrna, GA

Marion Tool and Die, Inc.—Terre Haute, IN

Master Craft Precision—Milpitas, CA

Master Precision Mold Technology—Greenville, MI

Matrix Tool Company—Fraser, MI

Mecca Machine and Tool, Inc.—Erie, MI

Mechanical Drive Components, Inc—Chicopee, MA

Metal-Tek Machining Inc.—Phoenix, AZ

Metalcraft, Inc.—Tempe, AZ

Miami Tool & Die, Inc.—Huntington, IN

Moldesign, Inc.—Knoxville, TN

Morris Machine Co., Inc.—Indianapolis, IN

Neutronics, Inc.—Phoenix, AZ

New England Precision Grinding—Holliston, MA

Noremac Manufacturing Corp.—Westboro, MA

Northeast Industrial—Hyde Park, MA

Norton Advanced Ceramics—White House, TN

Numerical Concepts, Inc.—Terre Haute, IN

Omni Machine Works, Inc.—Conyers, GA

Optimized EDM—Santa Clara, CA

Orchard Machine, Inc.—Byron Center, MI

Performance Machining Inc.—Irwin, PA

Perlos, Inc.—Fort Worth, TX

Phoenix Metallics—Phoenix, AZ

Pinnacle Precision Co.—Glassport, PA

Piper Plastics, Inc.—Chandler, AZ

Pleasant Precision, Inc.—Kenton, OH

Polaris Machining, Inc.—Marysville, WA

Post Enterprises, Inc.—Wichita, KS

Precise Engineering—Lowell, MI

Precision Deburring Enterprises—Sun Valley, CA

Precision Machine Technologies—Rochester, NY

Precision Machine Works—Aiken, SC

Precision Matters, Inc.—San Francisco, CA

Prince Machine—Holland, MI

Profab Industries L.L.C.—Phoenix, AZ

Progressive Tool & Die, Inc.—Meadville, PA

Prototype & Plastic Mold Co.,—Middletown, CT

Quality Grinding & Machining,—Bridgeport, CT

Quality Grinding and Machine—Rainbow City, AL

Quantum Manufacturing, Inc.—Burbank, CA

R & R Precision Machine, Inc.—Wichita, KS

R Davis EDM—Anaheim, CA

R. T. Callahan Machine Products—Dublin, PA

Radiant Technologies—Phoenix, AZ

Reata Engineering & Machine—Englewood, CO

RedSpark, Inc.—San Francisco, CA

Reed Precision Microstructures—Santa Rosa, CA

Rickman Machine Company—Wichita, KS

Rid-Lom Precision Tool Corp.—Rochester, NY

Roberts Tool & Die Company—Chillicothe, MO

Rogers Enterprises—Rochester, NY

Roll-Kraft—Mentor, OH

S & P Machine & Tool Co., L.L.C.—Toledo, OH

S.M.G. LLC—Buffalo, NY

STM Manufacturing—Holland, MI

Salamon Manufacturing Inc.—Middletown, CT

Saliba Industries, Inc.—Highwood, IL

Salomon Smith Barney—Washington, DC

Satran Technical Enterprises—Mayer, AZ

Savco Manufacturing Co. Inc.—Union, MO

Schwartz Industries, Inc.—Warren, MI

The Sherman Corporation—Inglewood, CA

Sibley Machine & Foundry Corp.—South Bend, IN

Sirois Tool Co. Inc.—Berlin, CT

Southwest Manufacturing, Inc.—Wichita, KS

Spirex Southwest—Gainesville, TX

Springfield Manufacturing, LLC—Clover, SC

Stedcraft Inc.—Torrington, CT

Stone Machine & Tool, Inc.—North Royalton, OH

Stonewall Jackson Mold Inc.—Annville, KY

Streamline Tooling Systems—Muskegon, MI

Sturman Industries—Woodland Park, CO

Superbolt, Inc.—Carnegie, PA

Superior Programming LLC—Clearwater, KS

Swiss Wire E D M—Costa Mesa, CA

Target Precision—Meadville, PA

Thayer Aerospace—Wichita, KS

Toledo Molding & Die Inc.—Toledo, OH

Tran Engineering—Garden Grove, CA

Transmatic Manufacturing—Tempe, AZ

Triumph Manufacturing, Inc.—East Hartford, CT

Tropic Tool & Mold, Inc.—Albertville, AL

Tru-Stop, Inc.—Prescott Valley, AZ

21st Century Tool & Die, Inc.—Waynesboro, TN

USBX, Inc.—Santa Monica, CA

Ultra Tool Company—Grantsburg, WI

Universal Brixius Inc.—Milwaukee, WI

Valley Tool & Mfg. Inc.—Grayslake, IL

Value Tool & Engineering, Inc.—South Bend, IN

Varco Systems—Orange, CA

Vico Louisville—Louisville, KY

W.A.C. Consulting/Coss Systems—Northboro, MA

Waiteco Machine—Acton, MA

Westfield Manufacturing Corp.—Westfield, IN

Wiesen EDM, Inc.—Belding, MI

Wintech Industries Inc.—Tempe, AZ

Attachment List 2: Firms To Be Deleted as Members

AAA Machine Inc.—Rochester, NY

ANT Inc.—Tullahoma, TN

A T G, Inc.—Houston, TX

A-W Engineering Company, Inc.—Santa Fe Springs, CA

A-1 Machining Company—New Britain, CT

Abrasive Machining Inc.—Rockford, IL

Accu-Fab, Inc.—Richardson, TX

Accu-Right Laser Corporation—Villa Ridge, MO

Accurate Machineworks, Inc.—Newport Beach, CA

AccuRounds—Avon, MA

Acra Aerospace, Inc.—Anaheim, CA

Action Tool & Manufacturing Inc.—Dallas, TX

Aerofast Ltd.—Scottsdale, AZ

Aerospec, Inc.—Chandler, AZ

Aircraft Hinge, Inc.—Valencia, CA

Alkron Manufacturing Corporation—Rochester, NY

Allied Die & Tool Works of—Rockford, IL

Alloy Tool Steel, Inc.—Santa Fe Springs, CA

Alpa Precision Machine Works—Houston, TX

Alta Engineering, Inc.—Sun Valley, CA

Aluminum Precision Products, Inc.—Santa Ana, CA

Amcraft Corporation—Oceanside, CA

Ames Engineering Corp.—Wilmington, DE

Anchor Lamina Inc.—Cheshire, CT

Apex Machine Tool Company, Inc.—Farmington, CT

Arc Weld Inc./A.W.I.—West Newton, PA

Arrow Tool & Gage Company, Inc.—Tulsa, OK

Atlantis Tool Corporation—Rochester, NY

Atols Tool & Mold Corporation—Schiller Park, IL

Automation Technologies Corp.—Cranston, RI

Axis Machining Inc.—Slatersville, RI

B & B Machine Products—Hayward, CA

B & W Tool & Die, Inc.—Dallas, TX

BNB Manufacturing Company, Inc.—Winsted, CT

Baker Valve & Machine Service—Zachary, LA

Beck Tool Incorporated—Edinboro, PA

Behrens & Peatman LLC—Bristol, CT

Beja Precision Manufacturing—Rochester, NY

Bell Tool, Inc.—Germantown, WI

Best Carbide Cutting Tools, Inc.—Gardena, CA

Blankinship Industries, Ltd.—Kent, WA

Boehnen Tool Company—Cleveland, OH

Bollinger Tool & Die, Inc.—Toledo, OH

Brimfield Precision—Brimfield, MA

Brink's Machine Company, Inc.—Alma, MI

Bromac, Inc.—Mountain View, CA

Brown Production, Inc.—Kent, WA

Burtree, Inc.—Van Nuys, CA

C & A Machine Co., Inc.—Newington, CT

C Q Machining, Inc.—Phoenix, AZ

California Composite Design, Inc.—Santa Ana, CA

California Reamer Company Inc.—Santa Fe Springs, CA

Cambridge Tool & Manufacturing—North Billerica, MA

CDL Manufacturing, Inc.—Rochester, NY

Cedar CNC Machining, Inc.—Cedar Springs, MI

Cer Mac Inc.—Horsham, PA

Chapman Machine Company, Inc.—Bristol, CT

Chip-Makers Tooling Supply—Whittier, CA

Classic Wire Cut Company, Inc.—Valencia, CA

Clifton Technical Company—Lincolnton, NC

Coleman-Fabro, Inc.—Morgan Hill, CA

Commercial Aircraft Products,—Wichita, KS

Companion Industries, Inc.—Southington, CT

Coventry Carbide Tool—Coventry, RI

Crowe Manufacturing Services Inc.—Dayton, OH

D & M Precision Manufacturing—Vandergrift, PA

Davis Technologies, Inc.—Poway, CA

Delta Systems, Inc.—Streetsboro, OH

Desselle Maggard Corporation—Baton Rouge, LA

Diamond Mold & Die, Inc.—Talimadge, OH

Droitcour Company—Warwick, RI

Dytran Instruments, Inc.—Chatsworth, CA

Eagle Metaicraft, Inc.—East Syracuse, NY

Eagle Tool & Die Company Inc.—Malvern, PA

Eastern Tool & Die, Inc.—Newington, CT

Edwards Enterprises—Newark, CA

Egbert Precision, Inc.—Woodland Park, CO

Electropolishing shop, Inc.—Santa Clara, CA

Encore Manufacturing Corporation—Cleveland, OH

Engbrecht Tool, Inc.—San Jose, CA

Enterprise Die & Mold, Inc.—Grandville, MI

Excel Tool & Mfg.—Lenexa, KS

Fidelity Tool & Machine Company,—Fort Lauderdale, FL

First Precision Machine, LLC—Blame, MN

Forrest Manufacturing Company—Houston, TX

Foundry Service & Supplies, Inc.—Torrance, CA

Four-D Tool Company West—Hartford, CT

Frederick's Machine Shop—New Iberia, LA

Fremont Plastic Molds—Fremont, OH

Fulton Tool Company, Inc.—Fulton, NY

Future Tool, Inc.—Rockford, IL

G. C. Stephens Tool & Machine—St. Peters, MO

G F S, Inc.—Cleveland, OH

General Weldments Inc.—Irwin, PA

Gerlach Machine & Tool, Inc.—St. Henry, OH

Giddings & Lewis—Dayton, OH

Goebel Machine Service, Inc.—Kansas City, MO

Granger Machine & Tool, Inc.—Granger, IN

H & H Machine & Tool Company—Woonsocket, RI

H & J Tool and Die Co., Inc.—Bohemia, NY

Harding Machine—East Liberty, OH

Hayden Precision Industries—Orchard Park, NY

Hi-Speed Machine Products—Kensington, CT

High Tech West, Inc.—Signal Hill, CA

Huntington Beach Machining—Huntington Beach, CA

I M I, Incorporated—Beaumont, TX

Ideality Inc.—Stanwood, WA

Industrial Engravers, Inc.—Claremont, NH

Inshield Die & Stamping Co.—Toledo, OH

J & S Centerless Grinding—New Britain, CT

J D C Manufacturing, Inc.—Redwood City, CA

Jackson's Precision Machine Co.—Nashville, TN

Jaques Diamond Tool, Inc.—Indianapolis, IN

Jasco Tools, Inc.—Rochester, NY

Jaycraft Corporation—Spring Valley, CA

Jeropa Swiss Precision, Inc.—Escondido, CA

Jetstream Water Cutting, Inc.—Hayward, CA

Johnstone Engineering & Machine—Parkesburg, PA

KG Tool Company—Madison Township, OH

Kamet—Santa Clara, CA

Keystone Electric Co., Inc.—Baltimore, MD

Kleen Cut Tool, Inc.—Addison, IL

Knight Machine & Tool—South Hadley, MA

Krato Products Corporation—St. Louis, MO

Lancaster Tool & Machine, Inc.—Lancaster, PA

LAR-VEL Engineering—Rialto, CA

LeFiell Manufacturing Company—Santa Fe Springs, CA

Liberty Machine Inc.—Fremont, CA

M & B Tool—Baldwinsville, NY

M P T America Corporation—Valencia, CA

M W Industries, Inc.—Houston, TX

Macnab Manufacturing, Inc.—Kent, WA

Magnolia Ironworks, Inc.—Lafayette, LA

Manufacturers Tool & Die—Spencerport, NY

Marena Industries, Inc.—East Hartford, CT

Mark Mold—Sanford, MI

Marton Tool & Die Company, Inc.—Grand Rapids, MI

Mason Electric Company—San Fernando, CA

Mastercraft Precision, Inc.—Milpitas, CA

Matrix Machine, Inc.—Tempe, AZ

Maxcor Manufacturing, Inc.—Colorado Springs, CO

McDanniels Machinery Company—Erie, PA

MechTronics of Arizona Corp.—Phoenix, AZ

R Meschkat Precision Machining—Valencia, CA

Metal Tronics, Inc.—Haverhill, MA

Metalsa—Perfek—Novi, MI

Milturn Corporation—Indianapolis, IN

Mo-Tech Corporation—Oakdale, MN

Mullen Industries Inc.—St. Clair, MO

Nicholson Precision Instruments,—Gaithersburg, MD

Norfil Manufacturing, Inc.—Pacific, WA

O A R Moldworks—Providence, RI

Orange County Grinding—Anaheim, CA

Orix Credit Alliance, Inc.—Charlotte, NC

Ott Brothers Machine Company—Wichita, KS

Pace Precision Products, Inc.—Dubois, PA

Pacific Tool Corporation—Englewood, CO

Part-Rite, Inc.—Cleveland, OH

Perry Technology Corporation—New Hartford, CT

Phoenix Precision Pattern Corp.—Mesa, AZ

Pinnacle Tool & Engineering—Cleveland, OH

Pioneer Motor Bearing Company—South San Francisco, CA

Precise Technology, Inc.—N. Versailles, PA

Precision CNC Products—Canyon Country, CA

Precision Lasers—Rochester, NY

Precision Valve, Inc.—Reno, NV

Production Tool & Die Co., Inc.—Charlotte, NC

Professional Machine Works, Inc.—Houston, TX

Progressive Machine & Design, LLC—Victor, NY

Prospect Mold Inc.—Cuyahoga Falls, OH

Puget Plastics Corporation—Tualatin, OR

Pursuit Incorporated—Buffalo, NY

Pyramid Tool—Dayton, OH

Quality Machine Inc.—Plaistow, NH

Quality Tool & Mfg.—San Leandro, CA

Quantum Grinding—Lyons, IL

Quartztek Incorporated—Phoenix, AZ

Quick Turn Machine Co. Inc.—Windsor Locks, CT

Radax Industries Inc.—Webster, NY

Revtek—Portland, OR

Rhode Island Precision Co., Inc.—Providence, RI

Ripley Machine Company, Inc.—Akron, OH

Rivera Industrial Precision—Bellflower, CA

Ron Mills and Company—Walnut, CA

Ronal Tool Company, Inc.—York, PA

Rovi Products Incorporated—Simi Valley, CA

S & B Jig Grinding, Inc.—Loves Park, IL

SKS Die Casting and Machining,—Alameda, CA

S R P M, Inc.—Solon, OH

Safety Components International—Costa Mesa, CA

Safety Line—Oakland, CA

Samaniego Enterprises, Inc.—Tucson, AZ

San Val Grinding Company—Burbank, CA

SEPCO-ERIE—Erie, PA

Serco—Covina, CA

Siam Precision, Inc.—Phoenix, AZ

Sisson Engineering Corp.—Northfield, MA

The Soares Company, Inc.—Danvers, MA

Southbridge Tool & Manufacturing—Dudley, MA

Southwest Precision Machining, Inc.—North Royalton, OH

Special Tool & Engineering Corp.—Indianapolis, IN

Specialty Machines, Inc.—Dayton, OH

Spectra-Physics Lasers Inc.—Oroville, CA

Square Deal Engineered Tooling—Elkhart, IN

Standard Metals, Inc.—Hartford, CT

Star Route Tool—Townville, PA

Stott Tool & Machine Company—Amityville, NY

Summit Tool & Mold Inc.—Dayton, OH

Sun E.D.M., Inc.—Tempe, AZ

Superior Tool & Manufacturing—Branchburg, NJ

Swenton Tool & Die Company—Phoenix, NY

Swiss Specialties, Inc.—Bohemia, NY

Swissline Precision Mfg. Inc.—Cumberland, RI

TC Precision Machine Inc.—Dayton, OH

TAB Manufacturing Corporation—Plainville, CT

Tenneco Automotive/Monroe Auto—Hartwell, GA

Tidewater Machine Company—White Plains, MD

Tool & Die Productions—Erie, PA

Trico Industries, Inc.—Lexington, TN

Trim Systems, Inc.—Seattle, WA

Trio Manufacturing, Inc.—El Segundo, CA

Triplex Industries, Inc.—Rochester, NY

Tura Machine Company—Foicroft, PA

Tydan Machining, Inc.—Denton, TX

Unitech Enterprises, Inc.—Rowland Heights, CA

United Stars Aerospace, Inc.—Kent, WA

UT Technologies, Inc.—Los Angeles, CA

Vals Tool & Die Corp.—Mount Vernon, NY

Vantage Mold & Tool Company—Akron, OH

Versa-Tool, Inc.—Meadville, PA

Vogform Tool & Die Company, Inc.—West Springfield, MA

W M C Grinding, Inc.—Santa Fe Springs, CA

Walco Tool & Engineering Corp.—Lockport, IL

Weldex, Inc.—Warren, MI

West Milton Precision Machine—Vandalia, OH

Western Machining, Inc.—Fullerton, CA

Williams Controls Industries,—Portland, OR

Wilson Engineering—Arleta, CA

Wire Tech, LLC—Watertown, CT

Yorktown Precision Technologies,—Yorktown, IN

Zakar Inc.—Brockport, NY

[FR Doc. 00-32373 Filed 12-19-00; 8:45 am]

BILLING CODE 3510-DR-P